DEPARTMENT OF LABOR

Employment and Training Administration

[TA-W-70,085]

Emerson Network Power, Embedded Computing, Including On-Site Leased Workers of QTI, Madison, WI; Amended Certification Regarding Eligibility To Apply for Worker Adjustment Assistance

In accordance with Section 223 of the Trade Act of 1974, as amended (“Act”), 19 U.S.C. 2273, the Department of Labor issued a Certification of Eligibility To Apply for Worker Adjustment Assistance on August 5, 2009, applicable to workers of Emerson Network Power, Embedded Computing, including on-site leased workers from QTI, Madison, Wisconsin. The notice will be published soon in the Federal Register.

At the request of the State Agency, the Department reviewed the certification for workers of the subject firm. The workers are engaged in the manufacturing of embedded computer products.

The review shows that on July 30, 2007, a certification of eligibility to apply for adjustment assistance was issued for all workers of Emerson Network Power, Embedded Computing Facility, Madison, Wisconsin, separated from employment on or after June 29, 2006 through July 30, 2009. The notice was published in the Federal Register on August 14, 2007 (72 FR 45451).

In order to avoid an overlap in worker group coverage, the Department is amending the May 18, 2008 impact date established for TA-W-70,085, to read July 31, 2009.

The amended notice applicable to TA-W-70,085 is hereby issued as follows:

All workers of Emerson Network Power, Embedded Computing, including on-site leased workers of QTI, Madison, Wisconsin, who became totally or partially separated from employment on or after July 31, 2009, through August 5, 2011, and all workers in the group threatened with total or partial separation from employment on date of certification through two years from the date of certification, are eligible to apply for adjustment assistance under Chapter 2 of Title II of the Trade Act of 1974, as amended.

Signed in Washington, DC, this 16th day of September 2009.
Elliott S. Kushner,
Certifying Officer, Division of Trade Adjustment Assistance.

[FR Doc. E9-23909 Filed 10-2-09; 8:45 am]

BILLING CODE 4510-FN-P